DEPARTMENT OF ENERGY

Federal Energy Regulatory Commission

[Docket No. CP08-32-000]

Natural Gas Pipeline Company of America; Notice of Application

January 3, 2008.

Take notice that on December 7, 2007, Natural Gas Pipeline Company of America (Natural), 747 East 22nd Street, Lombard, Illinois 60148-5072, filed in Docket No. CP08-32-000, an application pursuant to section 7(c) of the Natural Gas Act (NGA) and Subpart A of Part 157 of the Commission's Regulations, for a certificate of public convenience and necessity authorizing the construction and operation of certain facilities at Natural's Herscher Galesville storage field in Kankakee County, Illinois, (Herscher Galesville) to enable Natural to provide 10 Bcf of firm incremental storage service for certain expansion shippers, all as more fully set forth in the application which is on file with the Commission and open to public inspection. The filing may also be viewed on the Web at http://www.ferc.gov using the “eLibrary” link. Enter the docket number excluding the last three digits in the docket number field to access the document. For assistance, contact FERC Online Support at

FERCOnlineSupport@ferc.gov

or toll free at (866) 208-3676, or for TTY, contact (202) 502-8659.

Natural proposes to (a) drill and operate 15 new water withdrawal wells with 230 horsepower downhole submersible pumps, and up to 11 new water disposal wells at up to 11 new well pads; (b) install and operate surface water booster pumps on 3 existing water injection wells; (c) drill and operate horizontal lateral recompletions of up to 4 existing water injection wells, which, if successful, will reduce the number of new water injection wells required to be drilled; (d) upgrade and operate the existing water disposal system by replacing, looping or extending 12 water lines totaling 25,825 feet (made up of 8-, 10- and 12-inch diameter plastic pipe); (e) rework (via underreaming and deepening) and operate 5 existing gas injection/withdrawal wells; (f) purchase 2.0 Bcf of additional cushion gas; (g) install and operate one 8,180 hp natural gas compressor unit; (h) construct and operate miscellaneous appurtenant facilities as necessary to develop the proposed project, all at the Herscher Galesville storage field.

Natural also seeks approval of the negotiated rates as contained in the precedent agreements supporting the proposed project; approval of the recourse rates and tariff provisions necessary to effectuate such rates; and approval of an increase in Herscher Galesville's certificated peak day withdrawal level from 1,000 MMcf up to 1,100 MMcf. There would be no increase in Natural's currently certificated total maximum inventory level at Herscher Galesville. Natural estimates its construction cost for the Herscher Galesville storage field project at $75,349,207.

Any questions concerning the application should be directed to Bruce H. Newsome, Vice President, Natural Gas Pipeline Company of America, 747 East 22nd Street, Lombard, Illinois 60148-5072, telephone: (630) 691-3526, e-mail:

bruce_newsome@kindermorgan.com.

There are two ways to become involved in the Commission's review of this project. First, any person wishing to obtain legal status by becoming a party to the proceeding for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFT 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to the project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission strongly encourages electronic filings of comments, protests, and interventions via the Internet in lieu of paper. See 18 CFR 385.2001(a)(1)(iii) and the instructions on the Commission's Web site (http://www.ferc.gov) under the “e-Filing” link.

Comment Date: January 24, 2008.

Kimberly D. Bose,
Secretary.

[FR Doc. E8-223 Filed 1-9-08; 8:45 am]

BILLING CODE 6717-01-P